DEPARTMENT OF VETERANS AFFAIRS

Draft Policy and Implementation Plan for Public Access to Scientific Publications and Digital Data From Research Funded by the Department of Veterans Affairs (VA)

AGENCY: Department of Veterans Affairs.

ACTION: Notice and Request for Comments.

SUMMARY: This Federal Register Notice announces an opportunity for public review and comment on the draft Policy and Implementation Plan for Public Access to Scientific Publications and Digital Data from Research Funded by the Department of Veterans Affairs.

DATES: Comments must be received by VA on or before October 14, 2014.

ADDRESSES: Written comments may be submitted through http://www.Regulations.gov; by mail or hand delivery to the Director, Regulations Management (02REG), Department of Veterans Affairs, 810 Vermont Avenue NW., Room 1068, Washington, DC 20420; or by fax to (202) 273-9026. Comments should indicate that they are submitted in response to “Policy and Implementation Plan for Public Access to Scientific Publications and Digital Data from Research Funded by the Department of Veterans Affairs.” Copies of comments received will be available for public inspection in the Office of Regulation Policy and Management, Room 1063B, between the hours of 8:00 a.m. and 4:30 p.m., Monday through Friday (except holidays). Please call (202) 461-4902 for an appointment (this is not a toll-free number). In addition, during the comment period, comments may be viewed online through the Federal Docket Management System at http://www.Regulations.gov.

FOR FURTHER INFORMATION CONTACT: Tom Puglisi, Ph.D., Executive Director, Office of Research Oversight (10R), 810 Vermont Avenue NW., Washington, DC 20420, (202) 632-7676 (this is not a toll-free number).

SUPPLEMENTARY INFORMATION: VA's draft policy and implementation plan for increased public access to the results of its research was developed in response to recent White House initiatives on federally-funded scientific research. In its February 22, 2013, memorandum, the White House Office of Science and Technology Policy (OSTP) directed each Federal agency with over $100 million in annual expenditures for the conduct of research and development to develop a plan to support increased public access to the results of research funded by the Federal Government, including digital data sets and results published in peer-reviewed scholarly publications arising directly from federally-funded research (OSTP, Increasing Access to the Results of Federally Funded Scientific Research, February 22, 2013).

In implementing policies on public access to research publications and digital research data, VA must first remain cognizant of its ethical and legal obligations to safeguard the privacy of Veterans (and VA's other research subjects) and the confidentiality of their private information, while promoting the highest quality science. VA also recognizes that Veterans and the public at-large have a substantive interest in accessing the results of the research that VA conducts. VA's responsibility precludes unlimited public access to private information about individual research subjects. With this in mind, VA has carefully weighed the public benefits versus the risks of harm to Veterans in establishing the draft requirements.

VA is committed to ensuring that the final study results, including peer-reviewed publications and digital data sets from VA-funded scientific research are made available to the scientific community, industry, and the general public with the fewest constraints possible, while protecting the privacy of the Veterans (and others) about whom research data are obtained and safeguarding the confidentiality of their data.

Proposed requirements for public access to scientific publications will apply to all peer-reviewed publications reporting results of research that are either funded by the VA Office of Research and Development (ORD) or conducted, supported, or sponsored by any Veterans Health Administration (VHA) program office.

Proposed requirements for public access to digital data will apply to the final research data underlying all peer-reviewed publications reporting results of studies supported by ORD Cooperative Studies Program or ORD research awards of $500,000 or more in direct costs for any one year; and national studies conducted, supported, or sponsored by VHA program offices. VA proposes to begin sharing digital research data through controlled public access mechanisms and move toward open public access to the extent that the protection of Veterans' identifiable private information can be ensured.

Availability: Persons with access to the Internet may obtain the document at: http://www.va.gov/ORO/Docs/Guidance/Plan_for_Access_to_Results_of_VA_Funded_Rsch_02_14_2014.pdf. Alternatively, the document may be obtained by mail or by calling the Office of Research Oversight at (202) 632-7676 (this is not a toll-free number).

Signing Authority

The Secretary of Veterans Affairs, or designee, approved this document and authorized the undersigned to sign and submit the document to the Office of the Federal Register for publication electronically as an official document of the Department of Veterans Affairs. Jose D. Riojas, Chief of Staff, Department of Veterans Affairs, approved this document on July 31, 2014, for publication.

Dated: August 6, 2014.
Robert C. McFetridge,
Director, Regulation Policy and Management, Office of the General Counsel, Department of Veterans Affairs.

[FR Doc. 2014-18975 Filed 8-11-14; 8:45 am]

BILLING CODE 8320-01-P